DEPARTMENT OF TRANSPORTATION

Surface Transportation Board

[Docket No. FD 35742]

Clarkdale Arizona Central Railroad, L.C.—Trackage Rights Exemption—Drake Cement, LLC

Drake Cement, LLC (Drake), pursuant to a written Trackage Rights Agreement (Agreement) dated May 11, 2012, has agreed to grant overhead trackage rights to Clarkdale Arizona Central Railroad, L.C. (CACR) over Drake's Track Nos. 3907, 3924, 3921 and 3904 located between milepost 0 + 15 feet and milepost 0 + 3000 feet, in Drake, Ariz., a distance of 2,985 feet in length.¹ The Agreement also grants CACR the right to operate over Drake's Track Nos. 3922 and 3923 to provide switching operations for Drake. Both Drake and CACR are Class III rail carriers.

¹ A redacted trackage rights agreement between Drake and CACR was filed with the notice of exemption. An unredacted version was filed under seal along with a motion for protective order, which will be addressed in a separate decision.

The transaction is scheduled to be consummated on or after August 16, 2013, the effective date of the exemption (30 days after the exemption was filed).

Although Drake owns the above tracks, CACR states that the BNSF Railway Company (BNSF) retains an operating easement over the 2,985 feet of trackage. The purpose of the transaction is to permit CACR to interchange traffic with BNSF and to provide switching operations for Drake.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by August 9, 2013 (at least 7 days before the exemption becomes effective).

An original and 10 copies of all pleadings, referring to Docket No. FD 35742, must be filed with the Surface Transportation Board, 395 E Street SW., Washington, DC 20423-0001. In addition, a copy of each pleading must be served on Karl Morell, Ball Janik LLP, Suite 225, 655 Fifteenth Street NW., Washington, DC 20005.

Board decisions and notices are available on our Web site at “WWW.STB.DOT.GOV.”

Decided: July 30, 2013.
By the Board, Rachel D. Campbell, Director, Office of Proceedings.
Jeffrey Herzig,
Clearance Clerk.

[FR Doc. 2013-18679 Filed 8-1-13; 8:45 am]

BILLING CODE 4915-01-P